DEPARTMENT OF LABOR

Occupational Safety and Health Administration

[Docket No. ICR-1218-0003(2001)]

Gear-Certification Forms (29 CFR Part 1919); Extension of the Office of Management and Budget's (OMB) Approval of Information-Collection (Paperwork) Requirements

AGENCY: Occupational Safety and Health Administration (OSHA), Labor.

ACTION: Notice of an opportunity for public comment.

SUMMARY: OSHA solicits comments concerning its request to decrease the existing burden-hour estimates for, and to extend OMB approval of, the information-collection requirements specified in the gear-certification forms required by 29 CFR part 1919 (“Gear Certification”). The reference numbers and titles of these forms are 70 (“Application for Accreditation to Perform Gear Certification Functions”; Rev. July 1993), 71 (“Certificate of Unit Test and/or Examination of Crane, Derrick, or Other Material”; Rev. July 1993), and 72 (“Notice to Owner of Deficiencies Found on Certification Survey”; Rev. July 1993). The Agency believes these forms provide an effective and efficient means to apply for accreditation to certify material-handling devices used in marine terminals and longshoring, and for OSHA, employers, and employees to determine if these devices are safe to operate.

DATES: Submit written comments on or before August 7, 2001.

ADDRESSES: Submit written comments to the Docket Office, Docket No. ICR-1218-0003(2001), OSHA, U.S. Department of Labor, Room N-2625, 200 Constitution Avenue, NW., Washington, DC 20210; telephone (202) 693-2350. Commenters may transmit written comments of 10 pages or less in length by facsimile to (202) 693-1648.

FOR FURTHER INFORMATION CONTACT: Theda Kenney, Directorate of Safety Standards Programs, OSHA, U.S. Department of Labor, Room N-3609, 200 Constitution Avenue, NW., Washington, DC 20210; telephone (202) 693-2222. A copy of the Agency's Information-Collection Request (ICR) supporting the need for the information collections specified in OSHA gear-certification forms 70, 71, and 72 is available for inspection and copying in the Docket Office or by requesting a copy from Theda Kenney at (202) 693-2222 or Todd Owen at (202) 693-2444. For electronic copies of the ICR contact OSHA on the Internet at http://www.osha.gov/comp-links.html, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimal, collection instruments are understandable, and OSHA's estimate of the information-collection burden is correct. The Occupational Safety and Health Act of 1970 authorizes information collection by employers as necessary or appropriate for enforcement of the Act or for developing information regarding the causes and prevention of occupational injuries, illnesses, and accidents. (29 U.S.C. 657.)

The provisions of 29 CFR part 1919 (“Gear Certification”) require the use of three gear-certification forms. The reference numbers and titles of these forms are 70 (“Application for Accreditation to Perform Gear Certification Functions”; Rev. July 1993), 71 (“Certificate of Unit Test and/or Examination of Crane, Derrick, or Other Material”; Rev. July 1993), and 72 (“Notice to Owner of Deficiencies Found on Certification Survey”; Rev. July 1993).

Paragraph (a) of § 1919.3 (“Application for Accreditation”) specifies that a person (i.e., an individual, partnership, corporation, agency, association, or organization) seeking accreditation from OSHA to test and examine material-handling devices as required by parts 1917 (“Marine Terminals”) and 1918 (“Longshoring”) must file an application form provided by the Agency; OSHA currently uses form 70 for this purpose. The form collects principally information regarding the applicant's past experience in testing and examining material-handling devices. This Information is necessary for the Agency to evaluate the applicant's competence to test and examine these devices, and serves as the basis for accrediting the applicant to certify the devices for safe operation. Once accredited, OSHA designates the applicant as an “accredited person.”

Under paragraph (a) and (b) of § 1919.90 (“Documentation”), if an accredited person tests and examines a material-handling device and finds that it is in compliance with applicable Agency requirements, they must certify the device using a form approved by OSHA; currently, the Agency authorizes accredited persons to use of form 71 to certify these devices. Form 71 collects the following information: Name of the device's owner; a description of the device (i.e., type, manufacturer, model, serial number, owner's identification (if any), and boom length and type); the location of the device; service status (i.e., lifting, clamshell, magnet, or other); test loads applied (i.e., radius, proof loads, rated loads, means used to apply the proof load, and the basis for assigning load ratings), remarks and limitations; presence of fitted and non-fitted devices indicating load or limit, including the accuracy of these devices; the name and address of the accredited or otherwise authorized organization conducting the test and/or examination; the name, address, and signature of the authorized person conducting the test and/or examination; the position of the signatory in the organization conducting the test and/or examination; and the certification date. This information is necessary to accurately identify the certified device, ensure that it underwent proper testing and examination, specify any operating limitations, and ensure that an authorized person conducted the tests and examinations and provided certification. Accordingly, form 71 assures employers and employees that an accredited person properly administered the applicable testing and examination requirements and found the device safe to operate under the conditions specified in the certificate.

The Agency adopted form 72 in response to paragraph (a) of § 1919.12 (“Recordkeeping and Related Procedures Concerning Records in Custody of the Vessel”), which requires completion and maintenance of a register that describes detailed findings of inspections and examinations conducted under specified provisions of 29 CFR part 1919. While form 71 provides findings that support certification of material-lifting devices, OSHA approved form 72 to document deficiencies found during a certification survey. The information requested by form 72 includes: Name of the device's owner; identification, location, and specific description of the device; a detailed description of each deficiency found during the survey; and the same information regarding the accredited or otherwise authorized organization, authorized person, and signatory conducting the test and/or examination contained on form 71. Similar to form 71, the information on this form permits employers and employees to readily identify deficient material-lifting devices and to avoid operating them. In addition, form 72 informs mechanics regarding the servicing and repair problems of deficient devices. Prior to returning a device to service, employers can review the form to ensure that the mechanics performed the necessary repairs and maintenance.

Taken together, forms 71 and 72 ensure that employers use only devices that are in safe working order, thereby preventing serious injury and death to operators and other employees who use or work near the devices. These forms also provide the most efficient means for an OSHA compliance officer to determine the operating status of a device and that employers are using only properly certified devices.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA is requesting a decrease in the existing burden-hour estimate for, as well as an extension of OMB approval of, the collection-of-information requirements specified in its gear-certification forms 70, 71, and 72. Accordingly, the Agency is requesting to decrease the current burden-hour estimate from 93 hours to 76 hours, a total reduction of 17 hours. This reduction occurred because of a decrease in the time estimated for employers to provide forms 71 and 72 to an OSHA compliance officer during an inspection. The Agency will summarize the comments submitted in response to this notice, and will include this summary in its request to OMB to extend its approval of these information-collection requirements.

Type of Review: Extension of currently approved information-collection requirements.

Title: Gear-Certification Forms.

OMB Number: 1218-0003.

Affected Public: Business or other for-profit; not-for-profit institutions; Federal government; State, local or tribal governments.

Number of Respondents: 80.

Frequency of Response: Quadrennially; annually.

Average Time per Response: Varies from 2 minutes (.03 hour) for an employer to retrieve a copy of form 71 or 72 during an OSHA inspection to 45 minutes (.75 hour) for an applicant to complete form 70.

Estimated Total Burden Hours: 76.

Estimated Cost (Operation and Maintenance): $713,181.

IV. Authority and Signature

R. Davis Layne, Acting Assistant Secretary of Labor for Occupational Safety and Health, directed the preparation of this notice. The authority for this notice is the Paperwork Reduction Act of 1995 (44 U.S.C. 3506) and Secretary of Labor's Order No. 3-2000 (65 FR 50017).

Signed at Washington, DC on June 4, 2001.
R. Davis Layne,
Acting Assistant Secretary of Labor.

[FR Doc. 01-14499 Filed 6-7-01; 8:45 am]

BILLING CODE 4510-26-M